DEPARTMENT OF LABOR

Occupational Safety and Health Administration

[Docket No. ICR-99-28]

Agency Information Collection Activities; Announcement of MOM Approval

AGENCY: Occupational Safety and Health Administration, DOL.

ACTION: Notice of approval.

SUMMARY: The Occupational Safety and Health Administration (OSHA) is announcing that the Office of Management and Budget (OMB) approved the Information Collection Request for the Vinyl Chloride Standard under the Paperwork Reduction Act of 1995. This document announces the OMB approval number and expiration date for this action.

FOR FURTHER INFORMATION CONTACT: Todd Owen, Directorate of Policy, Occupational Safety and Health Administration, U.S. Department of Labor, Room N-3627, 200 Constitution Avenue, N.W., Washington, ,D.C. 20210, telephone (202) 693-2444.

SUPPLEMENTARY INFORMATION: In the Federal Register of September 28, 1999, (64 FR 52351-52352), the Agency announced its intent to request OMB to renew its current approval for the paperwork requirements contained in the Vinyl Chloride Standard (20 CFR 1910.1017, 1915.1017, and 1926.1117). Consistent with the paperwork Reduction Act of 1995 (44 U.S.C. 3501-3520), OMB has renewed its approval for the paperwork requirements contained in this standard, and assigned these requirement OMB control number 1218-0010. The approval expires February 28, 2003. Under 5 CFR 1320.5(b), an Agency may not conduct or sponsor, and a person is not required to respond to, a collection of information (paperwork) unless the collection displays a valid control number.

Authority and Signature

Charles N. Jeffress, Assistant Secretary of Labor for Occupational Safety and Health, directed the preparation of this notice. The authority for this notice is the paperwork Reduction Act of 1995 (44 U.S.C. 3506) and Secretary of Labor's Order No. 6-96 (62 FR 111).

Signed at Washington, DC on April 21, 2000.
Charles N. Jeffress,
Assistant Secretary of Labor.

[FR Doc. 00-10380 Filed 4-25-00; 8:45 am]

BILLING CODE 4510-26-M